NATIONAL SCIENCE FOUNDATION

Agency Information Collection Activities: Proposed Collection; Comment Request

AGENCY: National Science Foundation.

ACTION: Notice.

SUMMARY: The National Science Foundation (NSF) is announcing plans to request establishment and clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed colleciton of information; (c) ways to enhance the quality, utility, and clarity of the information on respondents, including through the use of automated collection techniques or other forms of information technology; and (d) ways to minimize the burden of the collection of information on respondents, including through the use of automated collection techniques or other forms of information technology.

DATES: Written comments should be received by March 27, 2006 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Request for Clearance for Program Evaluation of the National Science Foundation's (NSF) Faculty Early Career Development (CAREER) Program.

Title of Collection: Evaluation of the National Science Foundation's (NSF) Faculty Early Career Development (CAREER) Program.

OMB Control No.: 3145-(NEW).

Expiration Date of Approval: Not applicable.

Abstract: The National Science Foundation (NSF) requests a three-year clearance for research, evaluation and data collection (e.g., surveys and interviews) from actual and potential applicants to and other stakeholders in the Faculty Early Career Development Program (CAREER). CAREER stakeholders typically are limited to PhD scientists and engineers and faculty and administrators from universities and not-for-profit institutions (e.g., museums, non-degree granting educational or research institutions), and former NSF employees and intergovernmental personnel act (IPA) appointees. A preliminary, predecessor study to this new evaluation research was approved through September 2001 as an external (third-party) program evaluation under the EHR Generic Clearance (OMB 345-0136). The earlier CAREER study was conducted by Abt Associates, Inc., Cambridge, MA, and it examined only the first three years that NSF provided CAREER grants to eligible institutions in Fiscal Years (FY) 1995 through 1997. A copy of Abt's final report to NSF entitled Faculty Early Career Development (CAREER) Program: External Evaluation Summary Report (NSF 01-134) was posted in August 2001 on NSF's Web site and remains available at: http://www.nsf.gov/pubs/2001/nsf01134/pdf. The new CAREER program evaluation is estimated to cover from FY 1995 through FY 2005.

NSF established the CAREER Program to support career-development for beginning teacher-scholars in Science, Technology, Engineering and Mathematics (STEM), within the context of the mission of their employing organization. CAREER typically awards a grant to support the research and educational activities conducted by individual scientists and engineers with PhDs (or the equivalent). For specific details and the most updated information regarding CAREER program operations, please visit the NSF Web site at: http://www.nsf.gov/funding/pgm_summ.jsp?pims_id=5262&from-fund.

NSF has contracted a new program evaluation of CAREER, to be conducted by Abt Associates Inc. Through this new evaluation of the CAREER Program NSF aims to identify, measure and document:

(1) The longer-term impacts of this program on the research activities, educational activities and career advancement of CAREER awardees;

(2) the program's impacts on the integration of research and education by individual STEM faculty;

(3) the impacts of the CAREER program on the institutions (including at the department or other sub-institutional level) that administer the NSF funding to a CAREER scientist or engineer; and

(4) changes within NSF that may be attributed to the CAREER program's operations, benefiting scientists and engineers, and other CAREER stake holders.

The primary methods of data collection will include meta-data collection from open sources and from records at NSF and grantee institutions; surveys, institutional site visits, and in-person and telephone interviews. There is a bounded (or limited) number of respondents within the general public who will be affected by this research, including current and former CAREER awardees, scientists and engineers currently or once eligible to apply to CAREER, other scientists and engineers and the STEM research and education committees. NSF will use the CAREER program evaluation data and analyses to respond to requests from Committees of Visitors (COV), Congress and the Office of Management and Budget, particularly as related to the Government Performance and Results Act (GPRA) and the Program Effectiveness Rating Tool (PART). NSF will also use the program evaluation to improve communication with CAREER stakeholders and to share the broader impacts of the CAREER program with the general public.

Respondents: Individuals or households, Business or other for profit, Federal Government, State, Local or Tribal Government and not-for-profit institutions.

Estimated Number of Respondents: 4,000.

Burden on the Public: 2,000 hours.

Dated: January 20, 2006.
Suzanne H. Plimpton,
Reports Clearance Officer, National Science Foundation.

[FR Doc. 06-712 Filed 1-25-06; 8:45 am]

BILLING CODE 7555-01-M